DEPARTMENT OF HOMELAND SECURITY

National Communications System

[Docket No. NCS-2007-0003]

National Security Telecommunications Advisory Committee

AGENCY: National Communications System, DHS.

ACTION: Notice of Partially Closed Advisory Committee Meeting.

SUMMARY: The President's National Security Telecommunications Advisory Committee (NSTAC) will be meeting by teleconference: the meeting will be partially closed.

DATES: Thursday, August 16, 2007, from 2 p.m. until 3 p.m.

ADDRESSES: The meeting will take place by teleconference. For access to the conference bridge and meeting materials, contact Mr. William Fuller at (703) 235-5521 or by e-mail at: william.c.fuller@dhs.gov by 5 p.m. on Friday, August 10, 2007. If you desire to submit comments, they must be submitted by August 23, 2007. Comments must be identified by NCS-2007-0003 and may be submitted by one of the following methods:

• Federal eRulemaking Portal: http://www.regulations.gov. Follow the instructions for submitting comments.

• E-mail: NSTAC1@dhs.gov. Include docket number in the subject line of the message.

• Mail: Office of the Manager, National Communications System (N5), Department of Homeland Security, Washington, DC, 20529.

• Fax: 1-866-466-5370.

Instructions: All submissions received must include the words “Department of Homeland Security” and NCS-2007-0003, the docket number for this action. Comments received will be posted without alteration at: http://www.regulations.gov, including any personal information provided.

Docket: For access to the docket to read background documents or comments received by the NSTAC, go to: http://www.regulations.gov.

FOR FURTHER INFORMATION CONTACT: Ms. Kiesha Gebreyes, Chief, Industry Operations Branch at (703) 235-5525, e-mail: Kiesha.Gebreyes@dhs.gov or write the Deputy Manager, National Communications System, Department of Homeland Security, CS&C/NCS/N5.

SUPPLEMENTARY INFORMATION: The NSTAC advises the President on issues and problems related to implementing national security and emergency preparedness telecommunications policy. Notice of this meeting is given under the Federal Advisory Committee Act (FACA), Pub. L. 92-463, as amended (5 U.S.C. App.1 et seq.).

At the upcoming meeting, between 2 p.m. and 2:25 p.m., the members will receive comments from government stakeholders, and discuss and vote on the NSTAC's International Task Force (ITF) Report. This portion of the meeting will be open to the public.

Between 2:25 p.m. and 3 p.m., the committee will discuss network security and the global communications environment. This portion of the meeting will be closed to the public.

Persons with disabilities who require special assistance should indicate this when arranging access to the teleconference and are encouraged to identify anticipated special needs as early as possible.

Basis for Closure: The network security and global communications environment discussions will contain sensitive information concerning system threats and explicit physical/cyber vulnerabilities of the critical domestic communications infrastructure. Public disclosure of such information would heighten awareness of potential vulnerabilities and increase the likelihood of exploitation by terrorists or other motivated adversaries. Pursuant to Section 10(d) of the Federal Advisory Committee Act, Public Law 92-463, as amended (5 U.S.C. App. 1 et seq.), the Department has determined that this discussion will concern matters which, if disclosed, would be likely to frustrate significantly the implementation of a proposed agency action. Accordingly, the relevant portion of this meeting will be closed to the public pursuant to the authority set forth in 5 U.S.C. 552b(c)(9)(B).

Dated: July 12, 2007.
Sallie McDonald
Director, National Communications System.

[FR Doc. E7-14693 Filed 7-30-07; 8:45 am]

BILLING CODE 4410-10-P